Proclamation 8729 of October 3, 2011

Child Health Day, 2011

By the President of the United States of America

A Proclamation

One of the greatest responsibilities we have as a Nation is to ensure the health and well-being of our children. Today, we rededicate ourselves to providing our children with the quality health care, healthy food, clean environments, and safe schools and communities they deserve.

We have taken important steps that speak to who we are as a Nation that cares for its families and children. Young adults are the least likely to have health insurance, but now, thanks to the Affordable Care Act, young adults can stay on their parents’ insurance plan until they turn 26. As a result, approximately one million more have insurance coverage than 1 year ago. In addition, it is now illegal for health insurance companies to limit or deny coverage to children based on pre-existing conditions.

Getting children off to a healthy start at home and at school is vital to their success. This year, through the First Lady’s Let’s Move! Initiative, Americans have shown their overwhelming commitment to children’s health—over 1,250 schools met our HealthierUS School Challenge, thousands of child care providers are adopting healthier practices, and 1.7 million Americans achieved the Presidential Active Lifestyle Award. I also signed the Healthy, Hunger-Free Kids Act, making significant improvements to our school lunches, and we released a redesigned food pyramid—MyPlate—to encourage better eating.

Making sure kids grow up in safe environments is just as important to ensuring their well-being. In March, we hosted the White House Conference on Bullying Prevention because no child should feel unsafe or be afraid to be who they are at school or in their community. To keep children safe from hazards, we have taken great strides to provide for cleaner air and drinking water, and to reduce children’s exposure to lead dust. To make school buildings safer, the American Jobs Act I have proposed would provide for investments that would put Americans back to work while making important repairs to schools, like removing asbestos and updating technology.

On Child Health Day, we recognize the fundamental importance of caring for the health of our next generation, and we recommit to helping our children, their families, and our communities fulfill the dream of healthy, happy, and secure futures.

The Congress, by a joint resolution approved May 18, 1928, as amended (36 U.S.C. 105), has called for the designation of the first Monday in October as Child Health Day and has requested the President to issue a proclamation in observance of this day.

NOW, THEREFORE, I, BARACK OBAMA, President of the United States of America, do hereby proclaim Monday, October 3, 2011, as Child Health Day. I call upon families, child health professionals, faith-based and community organizations, and all levels of government to help ensure that America’s children stay safe and healthy.

IN WITNESS WHEREOF, I have hereunto set my hand this third day of October, in the year of our Lord two thousand eleven, and of the Independence of the United States of America the two hundred and thirty-sixth.

[FR Doc. 2011-26149

Filed 10-6-11; 8:45 am]

Billing code 3295-F2-P